DEPARTMENT OF HEALTH AND HUMAN SERVICES

Health Resources and Services Administration

Meeting of the National Advisory Committee on Rural Health and Human Services

AGENCY: Health Resources and Services Administration (HRSA), Department of Health and Human Services.

ACTION: Notice.

SUMMARY: In accordance with the Federal Advisory Committee Act, this notice announces that the Secretary's National Advisory Committee on Rural Health and Human Services (NACRHHS) has scheduled a public meeting. Information about NACRHHS and the agenda for this meeting is available on the NACRHHS website at: https://www.hrsa.gov/advisory-committees/rural-health/index.html.

DATES:

• Wednesday, September 14, 2022, 9:00 a.m.-5:00 p.m. Central Time (CT);

• Thursday, September 15, 2022, 9:00 a.m.-4:00 p.m. CT; and

• Friday, September 16, 2022, 9:00 a.m.-12:00 p.m. CT.

ADDRESSES: This meeting will be held at Spring Hill Suites, Naismith Ballroom, One Riverfront Plaza, Lawrence, Kansas 66044. On the morning of September 15, 2022, NACRHHS will break into subcommittees. One subcommittee will travel first to Midland Care Connection Inc. Emporia Program of All-inclusive Care for the Elderly (PACE) Center, 2720 W 15th Ave. Emporia, Kansas 66801 and then travel to Emporia State University, Union Building Room PKP, 1331 Market Street, Emporia, Kansas 66801. The other subcommittee will travel to Midland Care Connection Inc. Topeka PACE Center, 2134 SW Westport Drive, Topeka, Kansas 66614. In the afternoon, at approximately 3:00 p.m. CT., NACRHHS will reconvene at the Spring Hill Suites, Naismith Ballroom, One Riverfront Plaza, Lawrence, Kansas 66044.

On September 16, 2022, the address for the meeting is Spring Hill Suites, Naismith Ballroom, One Riverfront Plaza, Lawrence, Kansas 66044.

This meeting will also be held via webinar. This meeting is open to the public and can be joined by using these links:

Day One: Wednesday, September 14, 2022, 9:00 a.m.-5:00 p.m. CT: https://us02web.zoom.us/j/84472628124?pwd=enYrTEx2Q1B0RmJhdzNGU0VuNkoxdz09.

Day Two, Site Visit One: Midland Care Connection—Topeka, Kansas: Thursday, September 15, 2022, 10:45 a.m.-1:30 p.m. CT: https://us02web.zoom.us/j/89607611954?pwd=TzBpOHhNTm5lY2JqZlY3WlpDS29aQT09.

Day Two, Site Visit Two: Midland Care Connection—Emporia, Kansas: Thursday, September 15, 2022, 11:15 a.m.-1:30 p.m. CT: https://us02web.zoom.us/j/87992931769?pwd=L00yMVJ3QXBnVmVHelBWTXFpaHBpZz09.

Day Two, Full Committee meeting: Thursday, September 15, 2022, 3:00 p.m.-5:00 p.m. CT: https://us02web.zoom.us/j/84472628124?pwd=enYrTEx2Q1B0RmJhdzNGU0VuNkoxdz09.

Day Three: Friday, September 16, 2022, 9:00 a.m.-12:00 p.m. CT: https://us02web.zoom.us/j/84472628124?pwd=enYrTEx2Q1B0RmJhdzNGU0VuNkoxdz09.

FOR FURTHER INFORMATION CONTACT: Sahira Rafiullah, Chief Advisor at the Federal Office of Rural Health Policy, HRSA, 5600 Fishers Lane, 17W37, Rockville, Maryland 20857; 301-443-7095; or srafiullah@hrsa.gov.

SUPPLEMENTARY INFORMATION: NACRHHS provides advice and recommendations to the Secretary of Health and Human Services on policy, program development, and other matters of significance concerning both rural health and rural human services.

During the September 14-16, 2022 meeting, NACRHHS will discuss the provision of PACE in rural communities. Refer to the NACRHHS website for any updated information concerning the meeting.

Members of the public will have the opportunity to provide comments. Public participants wishing to provide oral comments must submit a written version of their statement at least 3 business days in advance of the scheduled meeting. Oral comments will be honored in the order they are requested and may be limited as time permits. Public participants wishing to offer a written statement should send it to Sahira Rafiullah, using the contact information above, at least 3 business days prior to the meeting.

Individuals who plan to attend and need special assistance or another reasonable accommodation should notify Sahira Rafiullah at the address and phone number listed above at least 10 business days prior to the meeting.

Maria G. Button,
Director, Executive Secretariat.

[FR Doc. 2022-18194 Filed 8-23-22; 8:45 am]

BILLING CODE 4165-15-P